DEPARTMENT OF THE INTERIOR

Bureau of Land Management

[NM-090-01-9922-EK]

Supplemental Rule Restricting Recreational and Sport Shooting To Protect Human Health and Safety in the Vicinity of the BLM Lands in Potter County, TX

AGENCY: Bureau of Land Management, Department of the Interior, Amarillo Field Office, Amarillo, Texas.

ACTION: Public Lands Restrictions.

SUMMARY: In accordance with Title 43, Code of Federal Regulations Section 8365.1-6, the State Director may establish supplementary rules in order to provide for the protection of persons, property and public lands and resources. Failure to comply with this supplementary rule will be punishable by a fine not to exceed $100,000 and/or imprisonment not to exceed 12 months. The environmental effects of the proposed rule have been analyzed separately by Environmental Assessment 090-2001-002.

DATES: The supplemental rule will take effect with the publication of this Notice.

SUPPLEMENTARY INFORMATION: This supplemental rule was proposed to create a safer environment for the public utilizing the area in and around the public lands in Potter County, Texas. Uncontrolled shooting on the subject public lands in Potter County, Texas, creates a public health and safety hazard by firing solid projectile firearms, that have a long range, into and about a populated rural area. Portions of the area of concern receive heavy use by ranchers, oil and gas development personnel and BLM employees. This supplemental rule will prohibit the firing of any firearm. On those public lands administered by the BLM in Potter County, Texas, (Sections 33, 34, 35, 36, 37, 38, 39, 40, 41, 42, 43, 45, and 48 in Block 5 of G. M. Survey; Sections 1, 3 and 4 in Block 4 of G.M. Survey; Sections 19, 21, 27, 29 and 35 of Block 21-W of G.C.&S.F.R.R. Survey) it is prohibited to fire any handgun, shotgun or rifle. Archery hunting (bow and arrow) will be allowed pursuant to State of Texas, Parks and Wildlife regulations. By prohibiting all gunfire a safer environment on both public and private lands will be created. During a thirty-day comment period on the proposal of this rule, no suggestions or comments were received. This rule only affects public lands administered by BLM. This special rule is in addition to existing rules and regulations previously established under Title 43 Code of Federal Regulations as well as other Federal laws applicable to the use of public lands.

FOR FURTHER INFORMATION CONTACT: Paul Tanner, Natural Resource Specialist, BLM Amarillo Field Office, 801 S. Fillmore Street, Suite 500, Amarillo, Texas 79101-3545, telephone (806) 324-2641.

Dated: August 13, 2001.
M. J. Chavez,
State Director.

[FR Doc. 01-23883 Filed 9-24-01; 8:45 am]

BILLING CODE 4310-84-P